Title 3—

The President

Proclamation 7961 of November 15, 2005

National Farm-City Week, 2005

By the President of the United States of America

A Proclamation

Farming is America's first industry, and the success of America's farmers and ranchers is crucial to the prosperity of our country. During National Farm-City Week, we recognize the important relationship between rural and urban industries that helps keep our farmers and our Nation strong.

America's farmers and ranchers work hard, and they provide a healthy, safe, and abundant food supply for our citizens and for countless individuals abroad. In order to make their goods available to the public, they depend on partnerships with processors, transporters, marketers, distributors, and many others. These cooperative networks make up America's robust agricultural industry and account for about one-sixth of all jobs in the United States.

My Administration understands that our farm economy is a source of strength for our Nation, and we remain committed to advancing policies that will improve our country's agricultural industry. We have successfully implemented the Farm Security and Rural Investment Act of 2002, which significantly increased conservation funding and provided an important safety net for our farmers. Earlier this year, I signed the Central American-Dominican Republic Free Trade Agreement, which will help ensure that free trade is fair trade and level the playing field for American products exported to Central America. To continue to open new markets for America's farmers and ranchers, we must also work for a free and fair global trading system. Through the World Trade Organization's Doha Round of trade negotiations, we are seeking to reduce and eliminate tariffs and other barriers to U.S. agricultural goods.

As we celebrate National Farm-City Week, we express appreciation for those who make a living off the land. Their hard work and dedication to maintaining strong networks between rural areas and urban communities helps to feed, clothe, and provide energy for Americans and others around the world.

NOW, THEREFORE, I, GEORGE W. BUSH, President of the United States of America, by virtue of the authority vested in me by the Constitution and laws of the United States, do hereby proclaim November 18 through November 24, 2005, as National Farm-City Week. I encourage all Americans to join in recognizing the great accomplishments of our farmers and ranchers and the entrepreneurship and ingenuity of countless others who produce America's agricultural goods.

IN WITNESS WHEREOF, I have hereunto set my hand this fifteenth day of November, in the year of our Lord two thousand five, and of the Independence of the United States of America the two hundred and thirtieth.

B

[FR Doc. 05-22981

Filed 11-16-05; 11:12 am]

Billing code 3195-01-P